DEPARTMENT OF TRANSPORTATION

Federal Aviation Administration

14 CFR Part 39

[Docket No. FAA-2012-1159; Directorate Identifier 2012-NM-028-AD; Amendment 39-17368; AD 2013-04-10]

RIN 2120-AA64

Airworthiness Directives; Airbus Airplanes

AGENCY: Federal Aviation Administration (FAA), Department of Transportation (DOT).

ACTION: Final rule.

SUMMARY: We are adopting a new airworthiness directive (AD) for certain Airbus Model A310-203, -204, -222, -304, -322, and -324 airplanes. This AD was prompted by a design review of the fuel tank access covers and analyses comparing compliance of the access covers to different tire burst models. ‘Type 21’ panels located within the debris zone revealed that they could not sustain the impact of the tire debris. This AD requires modifying the wing manhole surrounds and replacing certain fuel access panels. We are issuing this AD to prevent a possibility of a fire due to tire debris impact on the fuel access panels.

DATES: This AD becomes effective April 9, 2013.

The Director of the Federal Register approved the incorporation by reference of certain publications listed in this AD as of April 9, 2013

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 to include an AD that would apply to the specified products. That NPRM was published in the Federal Register on November 7, 2012 (77 FR 66762). That NPRM proposed to correct an unsafe condition for the specified products. The Mandatory Continuing Airworthiness Information (MCAI) states:

Following a design review of the fuel tank access covers and further analyses aiming at comparing compliance of the access covers to different tyre burst models, panels `Type 21' revealed to be a matter of concern when located within the tyre debris zone. It has been demonstrated that 'Type 21' Super Plastic Formed (SPF) panels for fuel access, installed on left hand (LH) and right hand (RH) wings at manhole positions No. 1 and No. 2 of A310 aeroplanes pre-MSN500 could not sustain in an acceptable manner the impact of tyre debris.

This condition, if not corrected, could result, following tyre debris impact, in fuel leaking and consequently fire on that area of the aeroplane.

For the reasons described above, this [European Aviation Safety Agency (EASA)] AD requires the replacement of SPF `Type 21' access panels with [type 11 access panels with]`Type 11A' [associated clamp plates] or `Type 21R' access panels and concurrent modification of the manhole surrounds at positions No.1 and No.2 to prevent re-installation of 'Type 21' panels at those positions.

You may obtain further information by examining the MCAI in the AD docket.

Comments

We gave the public the opportunity to participate in developing this AD. We received no comments on the NPRM (77 FR 66762, November 7, 2012) or on the determination of the cost to the public.

Conclusion

We reviewed the available data and determined that air safety and the public interest require adopting the AD as proposed.

Costs of Compliance

We estimate that this AD will affect 56 products of U.S. registry. We also estimate that it will take about 40 work-hours per product to comply with the basic requirements of this AD. The average labor rate is $85 per work-hour. Required parts will cost about $6,340 per product. Where the service information lists required parts costs that are covered under warranty, we have assumed that there will be no charge for these parts. As we do not control warranty coverage for affected parties, some parties may incur costs higher than estimated here. Based on these figures, we estimate the cost of this AD to the U.S. operators to be $545,440, or $9,740 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 66762, November 7, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-04-10 Airbus: Amendment 39-17368. FAA-2012-1159; Directorate Identifier 2012-NM-028-AD.

(a) Effective Date

This airworthiness directive (AD) becomes effective April 9, 2013.

(b) Affected ADs

None.

(c) Applicability

This AD applies to Airbus Model A310-203, -204, -222, -304, -322, and -324 airplanes, certificated in any category, manufacturer serial numbers 0378, 0392, 0399, 0404, 0406, 0407, 0409, 0410, 0412, 0413, 0416, 0418, 0419, 0421, 0422, 0424, 0425, 0427, 0428, 0429, 0431, 0432, 0434 to 0437 inclusive, 0439, 0440, 0441, 0443 to 0449 inclusive, 0451 to 0454 inclusive, 0456, 0457, 0458, 0467, 0472, 0473, 0475, 0476, 0478, 0480 to 0485 inclusive, and 0487 to 0499 inclusive.

(d) Subject

Air Transport Association (ATA) of America Code 57, Wings.

(e) Reason

This AD was prompted by a design review of the fuel tank access covers and analyses comparing compliance of the access covers to different tire burst models. “Type 21” panels located within the debris zone revealed that they could not sustain the impact of the tire debris. We are proposing this AD to prevent a possibility of a fire due to tire debris impact on the fuel access panels.

(f) Compliance

You are responsible for having the actions required by this AD performed within the compliance times specified, unless the actions have already been done.

(g) Actions

Within 60 months after the effective date of this AD, do the actions specified in paragraph (g)(1) or (g)(2) of this AD.

(1) Modify the wing manhole surrounds and replace the super plastic formed (SPF) “Type 21” fuel access panels at positions 1 and 2 on the left- and right-hand wings with “Type 11” fuel access panels with associated “Type 11A” clamp plates, in accordance with the Accomplishment Instructions of Airbus Mandatory Service Bulletin A310-57-2097, Revision 01, dated September 29, 2011.

(2) Modify the wing manhole surrounds and replace the SPF “Type 21” fuel access panels at positions 1 and 2 on the left- and right-hand wings with “Type 21R” fuel access panels, in accordance with the Accomplishment Instructions of Airbus Service Bulletin A310-57-2033, dated July 15, 1989.

(h) Parts Installation Prohibition

After accomplishing the modification required by paragraph (g) of this AD, no person may install SPF “Type 21” fuel access panels at positions 1 and 2 on the left- and right-hand wings, on any airplane.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency Airworthiness Directive 2012-0016, dated January 26, 2012, and the service information specified in paragraphs (j)(1) and (j)(2) of this AD, for related information.

(1) Airbus Service Bulletin A310-57-2033, dated July 15, 1989.

(2) Airbus Mandatory Service Bulletin A310-57-2097, Revision 01, dated September 29, 2011.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A310-57-2033, dated July 15, 1989.

(ii) Airbus Mandatory Service Bulletin A310-57-2097, Revision 01, dated September 29, 2011.

(3) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 14, 2013.
Ali Bahrami,
Manager, Transport Airplane Directorate, Aircraft Certification Service.

[FR Doc. 2013-04340 Filed 3-4-13; 8:45 am]

BILLING CODE 4910-13-P